DEPARTMENT OF AGRICULTURE

Rural Business-Cooperative Service

[Docket: RBS-20-CO-OP-0024]

Notice of Request for Revision of a Currently Approved Information Collection

AGENCY: Rural Business-Cooperative Service, USDA.

ACTION: Proposed collection; comments requested.

SUMMARY: In accordance with the Paperwork Reduction Act of 1995 (44 U.S.C. Chapter 35), this notice announces the Rural Business-Cooperative Service's (RBCS) intention to revise a currently approved information collection in support of the program for the Annual Survey of Farmer Cooperatives, as authorized in the Cooperative Marketing Act of 1926.

DATES: Comments on this notice must be received by August 31, 2020 to be assured of consideration.

FOR FURTHER INFORMATION CONTACT: Pamela Bennett, Rural Development Innovation Center, Regulations Management Division, U.S. Department of Agriculture, 1400 Independence Avenue SW, STOP 0793, Room 4015 South Building, Washington, DC 20250-0793. Telephone: (202) 720-9639. Email: pamela.bennett@usda.gov.

SUPPLEMENTARY INFORMATION: Title: Annual Survey of Farmer Cooperatives.

OMB Number: 0570-0007.

Type of Request: Revision of a currently approved information collection.

Abstract: One of the objectives of RBCS is to promote the understanding, use and development of the cooperative form of business as a viable option for enhancing the income of agricultural producers and other rural residents. RBCS direct role is providing knowledge to improve the effectiveness and performance of farmer cooperative businesses through technical assistance, research, information, and education. The annual survey of farmer cooperatives collects basic statistics on cooperative business volume, net income, members, financial status, employees, and other selected information to support RBCS' objective and role. Cooperative statistics are published in an annual report and other formats for use by the U.S. Department of Agriculture, cooperative management and members, educators and researchers, other Federal agencies, cooperative trade associations, general agribusiness, cooperative development practitioners, students, teachers, consultants, and many others.

Estimate of Burden: Public reporting burden for this collection of information is estimated to average 76 minutes or less per response.

Respondents: Farmer, rancher, and fishery cooperatives.

Estimated Number of Respondents: 1,037.

Estimated Number of Responses per Respondent: 1.

Estimated Number of Responses: 1,037.

Estimated Total Annual Burden on Respondents: 792 Hours.

Comments

The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RBCS is submitting to OMB for approval. Comments are invited on: (a) Whether the proposed collection of information is necessary for the proper performance of the functions of the agency, including whether the information will have practical utility; (b) The accuracy of the agency's estimate of the burden of the proposed collection of information including the validity of the methodology and assumptions used; (c) Ways to enhance the quality, utility and clarity of the information to be collected; and (d) Ways to minimize the burden of the collection of information on those who are to respond, including through the use of appropriate automated, electronic, mechanical, or other technological collection techniques or other forms of information technology.

Comments may be sent by the Federal eRulemaking Portal: Go to http://www.regulations.gov and, in the lower “Search Regulations and Federal Actions” box, select “Rural Business-Cooperative Service” from the agency drop-down menu, then click on “Submit.” In the Docket ID column, select RBS-20-CO-OP-0024 to submit or view public comments and to view supporting and related materials available electronically. Information on using Regulations.gov, including instructions for accessing documents, submitting comments, and viewing the docket after the close of the comment period, is available through the site's “User Tips” link.

Copies of this information collection can be obtained from Pamela Bennett, Rural Development Innovation Center, Regulations Management Division, at (202) 720-9639. All responses to this notice will be summarized and included in the request for OMB approval. All comments will also become a matter of public record.

Mark Brodziski,
Acting Administrator,Rural Business-Cooperative Service.

[FR Doc. 2020-14283 Filed 7-1-20; 8:45 am]

BILLING CODE 3410-XV-P